DEPARTMENT OF TRANSPORTATION

Office of the Secretary

[Docket No. DOT-RITA-2012-0001]

Privacy Act of 1974; System of Records Notice

AGENCY: Research and Innovative Technology Administration's (RITA), Department of Transportation (DOT).

ACTION: Notice to establish a new system of records.

SUMMARY: Pursuant to the Privacy Act of 1974, the Department of Transportation proposes to add a new system of records titled Vehicle and Driver Research, Test, and Evaluation Records. This system maintains records collected in support of, or during the conduct of, research, development, test, and evaluation activities conducted by the Research and Innovative Technology Administration. This new system will be added to the Department's inventory of record systems.

DATES: Written comments must be submitted on or before April 2, 2012. This new system will be effective April 2, 2012.

ADDRESSES: You may submit comments, identified by docket number “DOT-RITA-2012-0001” by one of the following methods:

• Federal e-Rulemaking Portal: http://www.regulations.gov. Follow the instructions for submitting comments.

• Fax: 202-493-2251.

• Mail: Department of Transportation Docket Management, Room W12-140, 1200 New Jersey Ave. SE., Washington, DC 20590

Instructions: All submissions received must include the agency name and docket number for this notice. All comments received will be posted without change and may be read at http://www.regulations.gov, including any personal information provided.

Docket: For access to the docket to read background documents or comments received go to http://www.regulations.gov. Follow the online instructions for accessing the docket.

FOR FURTHER INFORMATION CONTACT: For system related questions please contact Mike Schagrin (202-366-2180), Program Manager, ITS Safety, RITA, 1200 New Jersey Ave. SE., Washington, DC 20590. For privacy issues, please contact: Claire W. Barrett (202-366-8135), Departmental Chief Privacy Officer, Department of Transportation, 1200 New Jersey Ave. SE., Washington, DC 20590.

SUPPLEMENTARY INFORMATION:

I. Background

An integral part of the Department of Transportation (DOT) Research and Innovative Technology Administration's (RITA) mission is to bring advanced technologies into the transportation system. Some RITA research activities involve the collection of personally identifiable information. This system of records notice covers records collected in support of, or during the conduct of, RITA research activities, where those records are retrieved by personal identifier.

As a general rule, the information collected will be used by RITA solely for research. The information collected will never be used in operations and no operational decision will be based in any part on the information collected about individuals.

Pursuant to the Privacy Act of 1974, the Department of Transportation proposes to add a new system of records titled Vehicle and Driver Research, Test, and Evaluation Records. This system maintains records collected in support of, or during the conduct, of RITA-funded research, development, test, and evaluation activities. This new system will be added to the Department's inventory of record systems.

II. The Privacy Act

The Privacy Act embodies fair information principles in a statutory framework governing the means by which the United States Government collects, maintains, uses and disseminates individuals' records. The Privacy Act applies to information that is maintained in a “system of records.” A “system of records” is a group of any records under the control of an agency from which information is retrieved by the name of an individual or by some identifying number, symbol, or other particular assigned to an individual. In the Privacy Act, an individual is defined to encompass United States citizens and lawful permanent residents. As a matter of policy, DOT extends administrative Privacy Act protections to all individuals where systems of records maintain information on U.S. citizens, lawful permanent residents, and visitors. Individuals may request access to their own records that are maintained in a system of records in the possession or under the control of DOT by complying with DOT Privacy Act regulations, 49 CFR part 10.

The Privacy Act requires each agency to publish in the Federal Register a description denoting the type and character of each system of records that the agency maintains, and the routine uses that are contained in each system to make agency recordkeeping practices transparent, to notify individuals regarding the uses of their records, and to assist the individual to more easily find such files within the agency. Below is a description of the Vehicle and Driver Research, Test, and Evaluation Records system of records.

In accordance with 5 U.S.C. 552a(r), DOT has provided a report of this system of records to the Office of Management and Budget and to Congress.

System Number:

DOT/RITA 001

System Name:

Vehicle and Driver Research, Test, and Evaluation Records.

Security Classification:

Unclassified, Sensitive.

System Location:

Re Records are maintained at the RITA Headquarters in Washington, DC, at the Volpe National Transportation Systems Center in Cambridge, Mass., and at public or private institutions conducting research funded by RITA.

Categories of Individuals Covered by The System:

Categories of individuals covered by this notice include voluntary participants in RITA-funded research (all RITA-funded human subjects research is conducted in accordance with 45 CFR 46 and is reviewed by a certified Institutional Review Board).

Categories of Records in the System:

Records will vary according to the specific project and not all record types will be applicable to any given project. The information may include an individual's:

• Participant Background Information.

○ Individual Identifiers.

Full Name (First, Middle, Last);

Demographic information, including age and gender;

Individual subject research identifier created by DOT.

Driver's license number, issuing state, and qualifiers.

○ Vehicle Identifiers.

Personal vehicle vehicle identification number (VIN) and registration information.

Vehicle Identification Number (VIN) of government issued vehicles.

Identifiers for equipment installed by DOT in personal or government issued vehicle;

○ Contact Information.

Mailing/Residential Address.

Phone number(s).

Email address(es).

Institutional or organizational affiliation.

Work/Business related contact information.

Occupation and work schedule.

○ Eligibility Information.

Driver history and habits.

Medical history relevant to the scope of the research project;

Outcomes of criminal background check.

• Project Information.

○ Vehicle Sensor Information.

Video or still images, including infrared;

Audio recordings;

Dynamic information about a vehicle, including location, heading, proximity to and interaction with other vehicles and infrastructure;

Dynamic information about a driver's interaction with the vehicle, including steering wheel, turn signal, and accelerator and brake pedal positions; and

○ Data collected from drivers by means of surveys, focus groups, or interviews.

Authority for Maintenance of the System:

5 U.S.C. 301; the Federal Records Act, 44 U.S.C. 3101; Intelligent Transportation System Program, Public Law 109-59, 5303-10, 119 Stat. 1144, 1806-13 (2005).

Purpose(s):

The purposes of the Vehicle and Driver Research, Test, and Evaluation Records are to:

• Determine the eligibility of individuals to participate in RITA sponsored research activities.

• Evaluate the technical performance of innovative technologies incorporated into vehicles;

• Measure the effects of technologies included in research activities on drivers and driver behaviors and driver acceptance of the same;

• Quantify the potential for the technology to improve vehicle safety based on user behavior; and

• Identify driver behaviors independent of advanced technologies incorporated into the vehicle.

The data to be collected can be divided into two categories: Participant background data and vehicle sensor data. Participant background data is necessary during the enrollment phase of a study to select eligible participants and ensure that the overall mix of participants is consistent with the study design. This data is also necessary to contact participants during the study, collect any equipment distributed, and evaluate participant acceptance of the advanced technologies at the conclusion of a study.

Vehicle sensor data, including audio and video recordings, is necessary to evaluate the performance of the innovative technologies and their impacts on drivers. Sensor data may also be used to evaluate driver behaviors that are not related to the performance of the advanced technologies, such as estimating the prevalence of distracted driving.

Routine Uses of Records Maintained in the System, Including Categories of Users and the Purposes of Such Uses:

In addition to those disclosures generally permitted under 5 U.S.C. 552a(b) of the Privacy Act, all or a portion of the or information contained in this system, including audio and video recordings, but not including other personally identifiable information, may be disclosed outside DOT as a routine use pursuant to 5 U.S.C. 552a(b)(3) as follows:

1. To an agency, organization, or individual conducting research on behalf of the Department on vehicles or vehicle operators. To the extent practical DOT will limit the release of PII to that necessary for the conduct of specific research activity.

2. To a Federal, State, local, tribal, territorial, foreign, or international agency, if necessary to obtain information relevant to a DOT decision regarding the suitability of an individual to participate in a RITA sponsored research activity.

3. To contractors and their agents, grantees, experts, consultants, and others performing or working on a contract, service, grant, cooperative agreement or other assignment for DOT, when necessary to accomplish and agency function related to this system of records. Individuals provided information under this routine use are subject to the same Privacy Act requirements and limitations on disclosure as are applicable to DOT officers and employees.

4. See “Prefatory Statement of General Routine Uses” (available at http://www.dot.gov/privacy/privacy).

Other possible routine uses of the information, applicable to all DOT Privacy Act systems of records, are published in the Federal Register at 75 FR 82132, December 29, 2010, under “Prefatory Statement of General Routine Uses” (available at http://www.dot.gov/privacy/privacyactnotices).

Disclosure to Consumer Reporting Agencies:

None.

Policies and Practices for Storing, Retrieving, Accessing, Retaining, and Disposing of Records in the System:

Storage:

Records are maintained in electronic systems and in paper files. Certain records are maintained only in paper files (for example, financial, documents, photographs, and audio, recordings).

Retrievability:

In most cases, RITA is focused on evaluating the performance of a given experimental technology or effect on the vehicle operator. For this reason, RITA records are not as a matter of course retrieved by name or other identifier assigned to the individual. However, RITA may need to access records by name or other identifier in order to make corrections to an individual's record, resolve an anomaly related to a specific individual's record, and/or link disparate pieces of information related to an individual. For example, if an individual informed a researcher that he or she had inadvertently provided incorrect information regarding his or her driving history, the researcher would retrieve that individual's record using the research identifier in order to correct the erroneous data. In addition, RITA may need to access a specific individual's record during the course of a research study in order to contact that individual, or to retrieve property at the end of the study.

Safeguards:

All records are protected by employing a multi-layer security approach to prevent unauthorized access to sensitive data through appropriate administrative, physical, and technical safeguards. Protective strategies such as implementing physical access controls at DOT facilities; ensuring confidentiality of communications using tools such as encryption, authentication of sending parties, and compartmentalizing databases; and employing auditing software and personnel screening to ensure that all personnel with access to data are screened through background investigations commensurate with the level of access required to perform their duties. Records maintained in hard copy are stored in a locked file cabinet or safe.

Retention and disposal:

DOT is preparing a new records disposition schedule (Standard Form 115) for submission to the National Archives and Records Administration (NARA), which will include the following proposed retention periods:

Participant Background Information: Destroy/delete one year following completion of the research project, unless needed longer for legal or audit purposes.

Project Information: Destroy/delete five years following completion of the research project, unless the object of continuing research, or needed longer for legal or audit purposes.

All records maintained in this system of records will be treated as permanent records until the schedule is approved by NARA.

System manager(s) and address:

Mike Schagrin (202-366-2180), Program Manager, ITS Safety, Department of Transportation, Washington DC 20590.

Notification procedure:

Individuals seeking to determine whether their information is contained in this system should address written inquiries to the U.S. Department of Transportation, Privacy Act Officer, Office of the Chief Information Officer, 1200 New Jersey Avenue SE., Washington, DC 20590. Inquiries should include name, address and telephone number and describe the records you seek.

Record access procedures:

See “Notification procedure” above.

Contesting record procedures:

See “Notification procedure” above.

Record source categories:

Records include: (1) Records collected directly from the individual; (2) records obtained from other government agencies; (3) records collected from the individual using technologies like cameras or audio recorders; and (4) records collected from the vehicle operated by the individual.

Exemptions claimed for the system:

None.

Issued in Washington, DC on February 24, 2012.
Claire W. Barrett,
Departmental Chief Privacy Officer, Department of Transportation.

[FR Doc. 2012-4964 Filed 2-29-12; 8:45 am]

BILLING CODE 4910-62-P